DEPARTMENT OF COMMERCE

Foreign-Trade Zones Board

[Order No. 1583]

Expansion of Foreign-Trade Zone 38; Spartanburg County, SC

Pursuant to its authority under the Foreign-Trade Zones Act of June 18, 1934, as amended (19 U.S.C. 81a-81u), the Foreign-Trade Zones Board (the Board) adopts the following Order:

Whereas, the South Carolina State Ports Authority, grantee of Foreign-Trade Zone 38, submitted an application to the Board for authority to expand its zone to include five additional sites (684 acres total) located at the Riverbend Business Center in Spartanburg (Site 8—88 acres), at the Corporate Center I-85 and the Bryant Business Center in Spartanburg (Site 9—207 acres), at the Interchange Commerce Center in Spartanburg (Site 10—334 acres), at the Caliber Ridge Industrial Park in Greer (Site 11—51 acres), and at Industrial Warehousing in Duncan (Site 12—4 acres), and to reorganize its zone by restoring zone status to 19 acres within Site 3 in Duncan, granting zone status on a permanent basis to 19 acres at Temporary Site T-1 in Duncan (to become Site 7), and making permanent the current temporary location of Site 1 at the Global Trade Center in Greenville, within the Greenville-Spartanburg Customs and Border Protection port of entry (FTZ Docket 53-2007, filed 12/20/07);

Whereas, notice inviting public comment was given in the Federal Register (73 FR 1319, 01/08/08) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand and reorganize FTZ 38 is approved, subject to the FTZ Act and the Board's regulations, including Section 400.28, subject to the Board's 2,000-acre activation limit for the overall general-purpose zone project, and further subject to a sunset provision that would terminate authority on October 31, 2013 for sites 8, 9, 10, 11 and 12 where no activity has occurred under FTZ procedures before that date.

Signed at Washington, DC, this 16th day of October, 2008.
David M. Spooner,
Assistant Secretary of Commerce for Import Administration, Alternate Chairman, Foreign-Trade Zones Board.
Attest:
Andrew McGilvray,
Executive Secretary.

[FR Doc. E8-25580 Filed 10-24-08; 8:45 am]

BILLING CODE 3510-DS-P